AGENCY FOR INTERNATIONAL DEVELOPMENT

Agency Information Collection Activities; Submission to the Office of Management and Budget for Review and Approval; Comment Request; Application for Freedom of Information/Privacy Act Requests

AGENCY: U.S. Agency for International Development.

ACTION: Notice of information collection renewal.

SUMMARY: U.S. Agency for International Development (USAID), as part of its continuing effort to reduce paperwork and respondent burden, invites the general public and other Federal agencies to take this opportunity to comment on continuing information collections, as required by the Paperwork Reduction Act of 1995. Comments are requested concerning whether the proposed or continuing collections of information are necessary for the proper performance of the functions of the agency, including whether the information shall have practical utility; the accuracy of the burden estimates; ways to enhance the quality, utility, and clarity of the information collected; and ways to minimize the burden of the collection of the information on the respondents, including the use of automated collection techniques or other forms of information technology.

DATES: All comments should be submitted within 30 calendar days from the date of this publication.

ADDRESSES: Interested persons are invited to submit written comments regarding the proposed information collection to the Office of Information and Regulatory Affairs, Office of Management and Budget (OMB), 725 7th Street NW, Washington, DC 20543. Attention: Desk Officer for USAID.

FOR FURTHER INFORMATION CONTACT: Alecia S. Sillah, Supervisory FOIA Team Lead, Bureau for Management, Office of Management Services, Information and Records Division, U.S. Agency for International Development, Washington DC 20523-2701; email: foia@usaid.gov; tel. 202-916-4660.

SUPPLEMENTARY INFORMATION:

I. Abstract

The purpose of this collection is to enable the U.S. Agency for International Development to locate applicable records and to respond to requests made under the Freedom of Information Act and the Privacy Act of 1974. Information includes sufficient personally identifiable information and/or source documents as applicable. Failure to provide the required information may result in no action being taken on the request. Authority to collect this information is contained in 5 U.S.C. 552, 5 U.S.C. 552a, and 22 CFR 212-Subpart M.

II. Method of Collection

Paper.

III. Data

Title: Certification of Identity.

OMB Number: OMB 0412-0589.

Form Number: AID Form 507-1.

Title: Certification of Identity.

Type of Review: Renewal.

Affected Public: Individuals.

Estimated Number of Respondents: 600.

Estimated Total Annual Burden Hours: 9,000.

IV. Request for Comments

Comments are invited on: (1) Whether the proposed collection of information is necessary for the proper performance of the functions of USAID, including whether the information collected has practical utility; (2) the accuracy of USAID's estimate of the burden (including both hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. The comments will also become a matter of public record.

Dated: February 23, 2021.
Alecia S. Sillah,
Supervisory FOIA Team Lead, Bureau for Management, Office of Management Services, Information and Records Division, U.S. Agency for International Development.

[FR Doc. 2021-04053 Filed 2-25-21; 8:45 am]

BILLING CODE P